DEPARTMENT OF THE INTERIOR

National Park Service

[NPS-WASO-NAGPRA-11885; 2200-1100-665]

Notice of Inventory Completion: U.S. Department of Agriculture, Forest Service, Ozark-St. Francis National Forests, Russellville, AR; Correction

AGENCY: National Park Service, Interior.

ACTION: Notice; correction.

SUMMARY: The U.S. Department of Agriculture (USDA), Forest Service, Ozark-St. Francis National Forests has corrected two Notices of Inventory Completion published in the Federal Register on November 16, 2012. This notice corrects the association of the individuals identified in those notices.

ADDRESSES: Judith L. Henry, Forest Supervisor, USDA Forest Service, Ozark-St. Francis National Forests, Russellville, AR 72801, telephone (479) 964-7202.

SUPPLEMENTARY INFORMATION: This notice corrects the association of the individuals identified in two Notices of Inventory Completion published in the Federal Register (77 FR 68819-68820, November 16, 2012; 77 FR 68822-68824, November 16, 2012). The use of the abbreviation AAS to identify individuals in these notices was incorrectly attributed to the Arkansas Archeological Survey, an independent unit of the University of Arkansas staffed by professional archeologists, rather than the Arkansas Archeological Society, an educational and cultural interest group.

Correction

In the Federal Register (77 FR 68819-68820, November 16, 2012), paragraph seven, sentence one is corrected by replacing the words “of the AAS” with the words “who were members of the Arkansas Archeological Society.”

In the Federal Register (77 FR 68822-68824, November 16, 2012), paragraph seven, sentence two is corrected by replacing the name “Monroe Hutton” with “Monroe Hutton, an interested citizen,”.

In the Federal Register (77 FR 68822-68824, November 16, 2012), paragraphs 8, 9, and 11-24, are corrected by replacing the words “of the AAS” with the words “who were members of the Arkansas Archeological Society.”

Dated: December 7, 2012.
Melanie O'Brien,
Acting Manager, National NAGPRA Program.

[FR Doc. 2013-00445 Filed 1-10-13; 8:45 am]

BILLING CODE 4312-50-P